DEPARTMENT OF DEFENSE

Office of the Secretary

Guantanamo Bay to Dania Beach Submarine Fiber Optic Cable System (GTMO SFOC); Environmental Assessment (EA)/Finding of No Significant Impact (FONSI)

AGENCY: U.S. Defense Information Systems Agency, DoD.

ACTION: Notice of availability.

SUMMARY: The Defense Information Systems Agency (DISA) is announcing that it has prepared an Environmental Assessment (EA) and issued a Finding of No Significant Impact (FONSI) relating to DISA's evaluation of the Proposed Action and Alternatives to installing Submarine Fiber Optic Cable (SFOC) for communication purposes between the DISN Facilities at Miami FL and U.S. Naval Station Guantanamo Bay, Cuba (GTMO) in order to supply high Bandwidth to DoD activities at GTMO. This SFOC will improve long-haul communications between the continental U.S. (CONUS) and GTMO. The FONSI reports the studies that prove that there will be no significant environmental impact from the installation of this SFOC. This notice announces the availability of the final EA and FONSI to concerned agencies and the public.

ADDRESSES: Requests to receive a copy of the EA or FONSI should be mailed to Defense Information Systems Agency, Public Affairs Officer, P.O. Box 549, Ft. Meade, MD 20755-0549. Arrangements must be made in advance to pick the documents, due to facility security requirements.

FOR FURTHER INFORMATION CONTACT: DISA Public Affairs at 301-225-8100 or disa.meade.SPI.mbx.disa-pao or DISA, P.O. box 549, Ft. Meade, MD 20755-0549.

SUPPLEMENTARY INFORMATION: Background: Pursuant to the Council on Environmental Quality (CEQ) regulations for implementing the procedural provisions of the National Environmental Policy Act (NEPA; 40 Code of Federal Regulations [CFR] parts 1500-1508) and 32 CFR part 188, Environmental Effects in the United States of DoD Actions, the U.S. Defense Information Systems Agency (DISA) prepared an Environmental Assessment (EA) to analyze the installation of a submarine fiber optic cable connecting the Defense Information System Network (DISN) node located at Guantanamo Bay (GTMO), Cuba to the DISN node located in Miami, FL. The DISA is a Department of Defense (DoD) combat support agency under the direction, authority and control of the Assistant Secretary of Defense for Command, Control, Communications, and Intelligence (ASD [C31]).

The Guantanamo Bay to Dania Beach Submarine Fiber Optic Cable System involves two existing, shore-based U.S. naval facilities where the GTMO SFOC will be landed end-to-end. On the CONUS end, the cable will be landed at the U.S. Navy's South Florida Ocean Measurement Facility (SFOMF) at Dania Beach, Florida; from there, the GTMO SFOC will span the entirety of Florida's Territorial Waters (3 nautical miles [nm]), extending through the U.S. Territorial Sea (12 nm) and Contiguous Zone (24 nm), with the majority of the cable system passing through a combination of the U.S. Exclusive Economic Zone (EEZ), the Bahamian EEZ, and the Cuban EEZ to the nearshore landing at the American Naval Station Guantanamo Bay (NAVSTAGTMO). The DISA will lease commercial dark fiber to facilitate the terrestrial connection between SFOMF and the Network Access Point (NAP) of the Americas in Miami, Florida to provide DISN node-to-node connection.

Purpose and Need: The purpose of the Proposed Action is to improve long-haul communications between the continental U.S. (CONUS) and GTMO. Long-haul communications requirements at GTMO are currently provided by commercial satellite services. A Submarine Fiber Optic Cable (SFOC) provides significantly more bandwidth than satellite services, exhibits very low latency, and is not subject to adverse atmospheric conditions, such as severe weather (for example, tropical rain storms and hurricanes). Therefore, the SFOC will increase the level and reliability of communication service between CONUS and GTMO. The attached EA and this FONSI were prepared in compliance with the NEPA (42 U.S.C. 4321-4347), CEQ regulations for implementing the procedural provisions of the NEPA (40 Code of Federal Regulations [CFR] parts 1500-1508), and 32 CFR part 188, Environmental Effects in the United States of DoD Actions. The attached EA considers all potential impacts of the Proposed Action and Alternatives, including the No Action Alternative. This Finding of No Significant Impact (FONSI) summarizes the DISA's evaluation of the Proposed Action and Alternatives.

Alternatives Considered: Dania Beach, Florida Nearshore Cable Route Alternatives—Two action alternatives were analyzed for the nearshore installation route proposed at Dania Beach, Florida within the 12 nm limit of NEPA applicability. Of these two alternatives, Alternative 2 (Preferred) involving the bundling of the GTMO SFOC to the existing CS-125 cable that has been installed through the nearshore coral reef tracks was selected. This alternative provides the greatest degree of natural resource protection as it is co-located through a corridor that has previously received environmental agency clearances.

Guantanamo Bay, Cuba Nearshore Cable Route Alternatives—Of the three alternatives considered, Alternative 3 (Glass Beach) was selected as the preferred landing site which contains an existing concrete landing station supporting two subaqueous utility lines and communication infrastructure coming ashore at this location. Co-locating the GTMO SFOC cable within this existing corridor provides the greatest degree of environmental impact avoidance and minimization within the nearshore environment.

Deepwater Cable Route Alternatives—Three deepwater route alternatives with a common divergence point outside the U.S. were evaluated as part of the route planning process. These alternatives were not analyzed with respect to impacts on the human or natural environment because the DISA determined that the action of a one time, direct-laid SFOC system on the seabed has been demonstrated in past project actions at SFOMF and worldwide to ordinarily have only a minor, localized, and transient effect on the environment. Therefore, the action lacks the potential to cause significant harm to the environment outside the U.S. and meets the exemption requirement (E2.3.3.1.1) to prepare environmental documentation under Executive Order (E.O.) 12114, Environmental Effects Abroad of Major Federal Actions.

No Action Alternative—The No Action Alternative would be not to proceed with the GTMO SFOC system project linking NAVSTAGTMO at Guantanamo Bay, Cuba with the SFOMF facility at Dania Beach, Florida. NAVSTAGTMO would continue to operate with existing satellite communication capabilities which would not meet the operational need for reliability and additional bandwidth.

Conclusion: The GTMO SFOC EA was prepared and evaluated pursuant to NEPA, CEQ regulations at 40 CFR parts 1500-1508, and 32 CFR part 188. It has been concluded that, based on the analyses presented in the GTMO SFOC EA, the DISA has determined that no significant direct, indirect, or cumulative impacts would occur as a result of the Proposed Action. Therefore, no further study under NEPA is required, and a FONSI is thus warranted. In addition, the Proposed Action lacks the potential to cause significant harm to the environment outside the U.S. and thus is exempt from further environmental analyses under Executive Order 12114. Accordingly, the DISA approved the installation and operation of the GTMO SFOC.

Dated: March 9, 2015.
Aaron Siegel,
Alternate OSD Federal Register Liaison Officer, Department of Defense.

[FR Doc. 2015-05638 Filed 3-11-15; 8:45 am]

BILLING CODE 5001-06-P